DEPARTMENT OF COMMERCE

National Oceanic and Atmospheric Administration

RIN 0648-XE656

Availability of the Draft Report to Congress: Section 404 Fisheries Research

AGENCY: National Marine Fisheries Service (NMFS), National Oceanic and Atmospheric Administration (NOAA), Commerce.

ACTION: Notice of availability; request for comments.

SUMMARY: NMFS is releasing the draft Report to Congress on Fisheries Research in accordance with section 404 of the Magnuson-Stevens Fishery Conservation and Management Act (MSA) for public review and comment. Additional information, including the draft Report for download, may be found at: http://www.st.nmfs.noaa.gov/strategic-plan/MSA-Section-404-Report-2016/msa-section-404-report-to-congress-2016.

DATES: NMFS must receive comments on the draft Report by July 25, 2016.

ADDRESSES: You may submit comments on this document, identified NOAA-NMFS-2016-0064, by either of the following methods:

• Electronic Submission: Submit all electronic public comments via the Federal eRulemaking Portal. Go to www.regulations.gov/#!docketDetail;D=NOAA-NMFS-2016-0064. Click the “Comment Now!” icon, complete the required fields, and enter or attach your comments.

• Mail: Send written comments to Mark Chandler, NMFS, Fisheries Biologist, 1315 East-West Highway, Silver Spring, MD 20910. Include on the envelope the following identifier, “Section 404 Report Public Comment.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publically accessible. NMFS will accept anonymous comments (enter “N/A” in the required field if you wish to remain anonymous). Attachments to electronic comments will be accepted on Microsoft Word, Excel, or Adobe PDF file formats only. Please include the page number and line number in your comments.

FOR FURTHER INFORMATION CONTACT: Mark Chandler, 301-427-8114.

SUPPLEMENTARY INFORMATION:

Section 404 of the MSA requires the Secretary of Commerce to publish, in the Federal Register, a strategic plan for fisheries research for the five years immediately following its previous publication in the Federal Register. The MSA requires that the plan address four major areas of research: (1) Research to support fishery conservation and management; (2) conservation engineering research; (3) research on the fisheries; and (4) information management research. The MSA specifies that this plan shall contain a limited number of priority objectives for each of these research areas; indicate goals and timetables; provide a role for commercial fishermen in such research; provide for the collection and dissemination of complete and accurate information concerning fishing activities; and be developed in cooperation with the Regional Fishery Management Councils and affected states. This draft Report on Fisheries Research is consistent with the requirements of section 404 and with NOAA's Next Generation Strategic Plan located on the web at http://www.ppi.noaa.gov/wp-content/uploads/NOAA_NGSP.pdf.

NMFS currently conducts a comprehensive program of fisheries research and involves industry and others interested in fisheries planning and implementing its objectives. The scope of the present draft document focuses only on the four major areas of research specified in section 404 of the MSA. It does not include the regulatory and enforcement components of the NMFS mission.

Authority: 16 U.S.C. 1881.

Dated: June 20, 2016.
Ned Cyr,
Director, Office of Science and Technology, National Marine Fisheries Service.

[FR Doc. 2016-15026 Filed 6-23-16; 8:45 am]

BILLING CODE 3510-22-P